DEPARTMENT OF AGRICULTURE

Animal and Plant Health Inspection Service

[Docket No. APHIS-2009-0087]

Availability of a Draft Environmental Assessment for Oral Rabies Vaccine Program

AGENCY: Animal and Plant Health Inspection Service, USDA.

ACTION: Notice of availability and request for comments.

SUMMARY: We are advising the public that we have prepared a proposed environmental assessment relative to oral rabies vaccination programs in several States. Since the publication of our original environmental assessment and decision/finding of no significant impact in 2001, we have prepared, and made available to the public for comment, several supplemental environmental assessments and decisions/findings of no significant impact in order to reflect changes in the program. The new environmental assessment made available by this notice analyzes the further expansion the oral rabies vaccination program to include the States of New Mexico and Arizona, which is necessary to effectively combat the gray fox variant of the rabies virus. The new environmental assessment is intended to facilitate planning and interagency coordination in the event of rabies outbreaks, help streamline program management, and clearly communicate to the public the actions involved in the oral rabies vaccination program.

DATES: We will consider all comments that we receive on or before December 24, 2009.

ADDRESSES: You may submit comments by either of the following methods:

• Federal eRulemaking Portal: Go to (http://www.regulations.gov/fdmspublic/component/main?main=DocketDetail&d=APHIS-2009-0087) to submit or view comments and to view supporting and related materials available electronically.

• Postal Mail/Commercial Delivery: Please send two copies of your comment to Docket No. APHIS-2009-0087, Regulatory Analysis and Development, PPD, APHIS, Station 3A-03.8, 4700 River Road Unit 118, Riverdale, MD 20737-1238. Please state that your comment refers to Docket No. APHIS-2009-0087.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: Dr. Dennis Slate, Rabies Program Coordinator, Wildlife Services, APHIS, 59 Chenell Drive, Suite 7, Concord, NH 03301; (603) 223-9623. To obtain copies of the documents discussed in this notice, contact Mr. Kevin Williams, Operational Support Staff, WS, APHIS, 4700 River Road Unit 87, Riverdale, MD 20737-1234; phone (301) 734-4937, fax (301) 734-5157, or email: (Kevin.E.Williams@aphis.usda.gov). This notice and the proposed environmental assessment are also posted on the APHIS Web site at (http://www.aphis.usda.gov/regulations/ws/ws_nepa_environmental_documents.shtml).

SUPPLEMENTARY INFORMATION: The Wildlife Services (WS) program in the Animal and Plant Health Inspection Service (APHIS) cooperates with Federal agencies, State and local governments, and private individuals to research and implement the best methods of managing conflicts between wildlife and human health and safety, agriculture, property, and natural resources. Wildlife-borne diseases that can affect domestic animals and humans are among the types of conflicts that APHIS-WS addresses. Wildlife is the dominant reservoir of rabies in the United States.

On December 7, 2000, a notice was published in the Federal Register (65 FR 76606-76607, Docket No. 00-045-1) in which the Secretary of Agriculture declared an emergency and transferred funds from the Commodity Credit Corporation to APHIS-WS for the continuation and expansion of oral rabies vaccination (ORV) programs to address rabies in the States of Ohio, New York, Vermont, Texas, and West Virginia.

On March 7, 2001, we published a notice in the Federal Register (66 FR 13697-13700, Docket No. 01-009-1) to solicit public involvement in the planning of a proposed cooperative program to stop the spread of rabies in the States of New York, Ohio, Texas, Vermont, and West Virginia. The notice also stated that a small portion of northeastern New Hampshire and the western counties in Pennsylvania that border Ohio could also be included in these control efforts, and discussed the possibility of APHIS-WS cooperating in smaller-scale ORV projects in the States of Florida, Massachusetts, Maryland, New Jersey, Virginia, and Alabama. The March 2001 notice contained detailed information about the history of the problems with raccoon rabies in eastern States and with gray fox and coyote rabies in Texas, along with information about previous and ongoing efforts using ORV baits in programs to prevent the spread of the rabies variants or “strains” of concern.

Subsequently, on May 17, 2001, we published in the Federal Register (66 FR 27489, Docket No. 01-009-2) a notice in which we announced the availability, for public review and comment, of an environmental assessment (EA) that examined the potential environmental effects of the ORV programs described in our March 2001 notice. We solicited comments on the EA for 30 days ending on June 18, 2001. We received one comment by that date. The comment was from an animal protection organization and supported APHIS’ efforts toward limiting or eradicating rabies in wildlife populations. The commenter did not, however, support the use of lethal monitoring methods or local depopulation as part of an ORV program.

On August 30, 2001, we published a notice in the Federal Register (66 FR 45835-45836, Docket No. 01-009-3) in which we advised the public of APHIS’ decision and finding of no significant impact (FONSI) regarding the use of oral vaccination to control specific rabies virus strains in raccoons, gray foxes, and coyotes in the United States. That decision allows APHIS-WS to purchase and distribute ORV baits, monitor the effectiveness of the ORV programs, and participate in implementing contingency plans that may involve the reduction of a limited number of local target species populations through lethal means (i.e., the preferred alternative identified in the EA). The decision was based upon the final EA, which reflected our review and consideration of the comments received from the public in response to our March 2001 and May 2001 notices and information gathered during planning/scoping meetings with State health departments, other State and local agencies, the Ontario Ministry of Natural Resources, and the Centers for Disease Control and Prevention.

Following the August 2001 publication of our original decision/FONSI, we determined there was a need to expand the ORV programs to include the States of Kentucky and Tennessee to effectively stop the westward spread of raccoon rabies. Accordingly, we prepared a supplemental decision/FONSI to document the potential effects of expanding the programs. We published a notice announcing the availability of the supplemental decision/FONSI in the Federal Register on July 5, 2002 (67 FR 44797-44798, Docket No. 01-009-4).

Following the publication of the supplemental decision/FONSI in July 2002, we determined the need to further expand the ORV program to include the States of Georgia and Maine to effectively prevent the westward and northward spread of the rabies virus across the United States and into Canada. To facilitate planning, interagency coordination, and program management and to provide the public with our analysis of potential individual and cumulative impacts of the expanded ORV programs, we prepared a supplemental EA that addresses the inclusion of Georgia and Maine, as well as the 2002 inclusion of Kentucky and Tennessee, in the ORV program. In addition, we prepared a new decision/FONSI based on the supplemental EA that was published in the Federal Register on June 30, 2003 (68 FR 38669-38670, Docket No. 01-009-5).

Following publication of the 2003 supplemental EA and decision/FONSI, we determined the need to further expand the ORV program to include portions of National Forest System lands, excluding Wilderness Areas, within several eastern States. The National Forest System lands where APHIS-WS involvement could be expanded included the States of Maine, New York, Vermont, New Hampshire, Pennsylvania, Ohio, Virginia, West Virginia, Tennessee, Kentucky, Alabama, Georgia, Florida, North Carolina, South Carolina, Massachusetts, Maryland, and New Jersey. Cooperative rabies surveillance activities and/or baiting programs were already being conducted on various land classes, with the exception of National Forest System lands, in many of the aforementioned States. The programs’ primary goals were to stop the spread of a specific raccoon rabies variant or “strain” of the rabies virus. If not stopped, this strain could potentially spread to much broader areas of the United States and Canada and cause substantial increases in public and domestic animal health costs because of increased rabies exposures. As numerous National Forest System lands are located within current and potential ORV barrier zones, it became increasingly important to bait these large land masses to effectively combat this strain of the rabies virus. In addition, we prepared a new decision/FONSI based on the supplemental EA that was published in the Federal Register on February 20, 2004 (69 FR 7904-7905, Docket No. 01-009-6).

Following the 2004 supplemental EA and decision/FONSI for expansion of the ORV program to include portions of National Forest System lands, we determined the need to further expand the ORV program to include 25 eastern States (Maine, New York, Vermont, New Hampshire, Pennsylvania, Ohio, Virginia, West Virginia, Tennessee, Kentucky, Alabama, Georgia, Florida, North Carolina, South Carolina, Massachusetts, Maryland, Connecticut, Rhode Island, Delaware, Indiana, Michigan, Mississippi, Louisiana and New Jersey), the District of Columbia, and Texas to effectively prevent the westward and northward spread of the rabies virus across the United States and into Canada. In addition, we prepared a new decision/FONSI based on the supplemental EA that was published in the Federal Register on September 23, 2004 (69 FR 56992-56993, Docket No. 01-009-7).

Following the 2004 supplemental EA and decision/FONSI, we determined the need to expand the ORV program to include portions of National Forest System lands, excluding Wilderness Areas, within the same 25 eastern States and the District of Columbia. As numerous National Forest System lands are located within current and potential ORV barrier zones, it had become increasingly important to bait these large land masses to effectively combat this strain of the rabies virus. Accordingly, we prepared a supplemental EA and decision/FONSI that served to update program needs and evaluate current data. Those documents were made available through a notice published in the Federal Register on December 8, 2005 (70 FR 72977-72978, Docket No. 01-009-8).

In 2007, we prepared a new decision/FONSI to update and replace the previous decision/FONSI of September 9, 2004, for the 2004 supplemental EA. The purpose of the new 2007 decision/FONSI was to clarify the term “contingency actions,” which is used in the 2004 supplemental EA, and to analyze a type of contingency action called trap-vaccinate-release (TVR) that was not analyzed as part of the proposed action in the 2004 supplemental EA. The 2007 decision/FONSI was made available through a notice published in the Federal Register on April 27, 2007 (72 FR 20984-20986, Docket No. 01-009-9).

As a result of a recent outbreak of gray fox variant rabies in coyotes west of the original gray fox ORV zone in Texas toward the New Mexico border, and an ongoing outbreak of gray fox variant rabies in western New Mexico and eastern Arizona, APHIS-WS has determined there is a need to further expand the ORV program to include the States of New Mexico and Arizona to effectively combat the gray fox variant of the rabies virus. In addition, the State of Arizona recently released a draft management plan for invasive species that included the rabies virus on its list of invasive species that should be controlled and managed. The purpose of the new 2009 EA that we are making available through this notice is to facilitate planning and interagency coordination, help streamline program management, and to clearly communicate with the public the analysis of individual and cumulative impacts of an expanded APHIS-WS ORV program. The States where APHIS-WS involvement would be continued or expanded include the 26 States noted previously plus New Mexico and Arizona. The program’s primary goals are to stop the spread of specific raccoon (eastern States), coyote (Texas), and gray fox (Texas, New Mexico, and Arizona) rabies variants to new areas. The EA analyzes the proposed action and several alternatives with respect to a number of environmental and other issues raised by involved operating agencies and the public. Analysis of those areas and information not included in the EA, the 2004 supplemental EA, and the associated decisions/FONSIs are being presented in the new 2009 EA and have been incorporated into the decisionmaking process.

The proposed EA that is the subject of this notice, as well as the documents cited above that preceded it, have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS’ NEPA Implementing Procedures (7 CFR part 372).

The EA may be viewed on the Regulations.gov Web site or in our reading room. (Instructions for accessing Regulations.gov and information on the location and hours of the reading room are provided under the heading ADDRESSES at the beginning of this notice.) In addition, copies may be obtained by calling or writing to the individual listed under FOR FURTHER INFORMATION CONTACT.

Done in Washington, DC, this 18th day of November 2009.
Kevin Shea,
Acting Administrator, Animal and Plant Health Inspection Service.

[FR Doc. E9-28142 Filed 11-23-09: 11:41 am]

BILLING CODE 3410-34-S